DEPARTMENT OF COMMERCE

International Trade Administration

[A-351-857]

Raw Honey From Brazil: Preliminary Results and Rescission, in Part, of Antidumping Duty Administrative Review; 2023-2024

AGENCY: Enforcement and Compliance, International Trade Administration, Department of Commerce.

SUMMARY: The U.S. Department of Commerce (Commerce) is conducting an administrative review of the antidumping (AD) order on raw honey from Brazil for the period of review (POR) June 1, 2023, through May 31, 2024. Commerce preliminarily finds that Melbras Importadora E Exportadora Agroindústria Ltda. (Melbras) and Minamel Agroindústria Ltda. (Minamel) made sales of subject merchandise at prices below normal value (NV) during the POR. Additionally, we are rescinding this review, in part, with respect to certain companies for which there were no reviewable entries of subject merchandise during the POR, and for which requests for review were timely withdrawn. We invite interested parties to comment on these preliminary results.

DATES: Applicable September 30, 2025.

FOR FURTHER INFORMATION CONTACT: John Frye or Braeden Lowe, AD/CVD Operations, Office V, Enforcement and Compliance, International Trade Administration, U.S. Department of Commerce, 1401 Constitution Avenue NW, Washington, DC 20230; telephone: (202) 482-3035 or (202) 482-2000, respectively.

SUPPLEMENTARY INFORMATION:

Background

On July 29, 2024, Commerce initiated an administrative review of the antidumping duty (AD) order on raw honey from Brazil, in accordance with section 751(a) of the Tariff Act of 1930, as amended (the Act).¹ This review covers 22 producers/exporters of subject merchandise.² Commerce selected two mandatory respondents for individual examination, Melbras and Minamel.³

¹ See Initiation of Antidumping and Countervailing Duty Administrative Reviews, 89 FR 60871 (July 29, 2024) (Initiation Notice); see also Raw Honey from Argentina, Brazil, India, and the Socialist Republic of Vietnam: Antidumping Duty Orders, 87 FR 35501 (June 10, 2022) (Order), as amended by Raw Honey from Brazil: Notice of Court Decision Not in Harmony With the Final Determination of Antidumping Duty Investigation; Notice of Amended Final Determination; Notice of Amended Antidumping Duty Order, 90 FR 9225 (February 10, 2025) (Amended Final).

² See Initiation Notice.

³ See Memoranda, “Respondent Selection,” dated August 23, 2024, and “Selection of Additional Respondent,” dated October 9, 2024.

On December 9, 2024, Commerce tolled certain deadlines in this administrative proceeding by 90 days ⁴ and, on May 2, 2025, Commerce extended the time limit for completing the preliminary results of this review until September 25, 2025.⁵ For a complete description of the events that followed the initiation of the review, see the Preliminary Decision Memorandum.⁶

⁴ See Memorandum, “Tolling of Deadlines for Antidumping and Countervailing Duty Proceedings,” dated December 9, 2024.

⁵ See Memorandum, “Extension of Deadline for Preliminary Results of Antidumping Duty Administrative Review,” dated May 2, 2025.

⁶ See Memorandum, “Decision Memorandum for the Preliminary Results of the Administrative Review of the Antidumping Duty Order on Raw Honey from Brazil; 2023-2024,” dated concurrently with, and hereby adopted by, this notice (Preliminary Decision Memorandum).

Scope of the Order

The product covered by the scope of this Order is raw honey from Brazil. For a full description of the scope of the Order, see the Preliminary Decision Memorandum.

Rescission of Administrative Review, in Part

Pursuant to 19 CFR 351.213(d)(1), Commerce will rescind an administrative review, in whole or in part, if a party that requested a review withdraws the request within 90 days of the date of publication of the initiation of the requested review. Because interested parties timely withdrew all review requests for Apis Nativa Agroindustrial Exportadora Ltda (Apis Nativa), we are rescinding this review, in part, with respect to Apis Nativa.

Additionally, pursuant to 19 CFR 351.213(d)(3), when there are no reviewable entries of subject merchandise during the POR subject to the AD order for which liquidation is suspended, Commerce may rescind an administrative review, in whole or only with respect to a particular exporter or producer.⁷ At the end of the administrative review, any suspended entries are liquidated at the assessment rate computed for the review period.⁸ Therefore, for an administrative review to be conducted, there must be at least one reviewable, suspended entry that Commerce can instruct U.S. Customs and Border Protection (CBP) to liquidate at the newly calculated assessment rate. On October 7, 2024, Commerce notified all interested parties of its intent to rescind this review with respect to certain companies because those companies had no reviewable, suspended entries of subject merchandise and invited parties to comment.⁹ We received no comments on our intent to rescind the review with respect to these companies.

⁷ See, e.g. Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

⁸ See 19 CFR 351.212(b)(1).

⁹ See Memorandum, “Revised Notice of Intent to Rescind Review, in Part,” October 7, 2024, at Attachments I and II.

Accordingly, pursuant to 19 CFR 351.213(d)(1), (3), and (4), we are rescinding this administrative review, in part, with respect to Apis Nativa and the seven additional companies listed in Appendix III to this notice that had no reviewable, suspended entries of subject merchandise during the POR.

Methodology

Commerce is conducting this review in accordance with section 751(a) of the Act. We calculated export price and constructed export price in accordance with sections 772(a) and 772(b) of the Act, respectively. We calculated NV in accordance with section 773 of the Act.

For a full description of the methodology underlying these preliminary results, see the Preliminary Decision Memorandum. A list of topics discussed in the Preliminary Decision Memorandum is included as Appendix I to this notice. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely” on the basis of facts available.

We preliminarily calculated weighted-average dumping margins for Melbras and Minamel that are not zero, de minimis, or determined entirely on the basis of facts available. Therefore, Commerce assigned a margin to the non-selected companies based on the simple average of the weighted average dumping margins preliminarily calculated for the two mandatory respondents, as listed below.¹⁰

¹⁰ With more than one respondent under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sale values for the merchandise under consideration. Commerce then compares (B) and (C) to (A) and selects either the (B) or (C) rate based on the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010). For a complete analysis of the data, see Memorandum, “Preliminary Calculation of Rate for Non-Selected Companies,” dated September 25, 2025.

Preliminary Results of the Review

Commerce preliminarily determines that the following weighted-average dumping margins exist for the period June 1, 2023, through May 31, 2024:

Exporter/producer | Weighted- average dumping margin (percent)
Melbras Importadora E Exportadora Agroindústria Ltda | 3.94
Minamel Agroindústria Ltda | 12.13
Non-Examined Companies ¹¹ | 8.04

Disclosure

Commerce intends to disclose the calculations performed in connection with these preliminary results to interested parties within five days of any public announcement or, if there is no public announcement, within five days of the date of publication of this notice in the Federal Register, in accordance with 19 CFR 351.224(b).

¹¹ See Appendix II for a list of these companies.

Public Comment

Case briefs or other written comments may be submitted to the Assistant Secretary for Enforcement and Compliance.¹² Pursuant to 19 CFR 351.309(c)(1)(ii), we have modified the deadline for interested parties to submit case briefs to Commerce no later than 21 days after the date of the publication of this notice. Rebuttal briefs, limited to issues raised in the case briefs, may be filed not later than five days after the date for filing case briefs.¹³ Interested parties who submit case briefs or rebuttal briefs in this proceeding must submit: (1) a table of contents listing each issue; and (2) a table of authorities.

¹² See 19 CFR 351.309(c)(1)(ii); see also 19 CFR 351.303 (for general filing requirements).

¹³ See 19 CFR 351.309(d); see also Administrative Protective Order, Service, and Other Procedures in Antidumping and Countervailing Duty Proceedings, 88 FR 67069, 67077 (September 29, 2023) (APO and Service Procedures).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁴ Further, we request that interested parties limit their executive summary of each issue to no more than 450 words, not including citations. We intend to use the executive summaries as the basis of the comment summaries included in the issues and decision memorandum that will accompany the final results in this review. We request that interested parties include footnotes for relevant citations in the executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing must submit a written request to the Assistant Secretary for Enforcement and Compliance, U.S. Department of Commerce, within 30 days after the date of publication of this notice. Requests should contain: (1) the party's name, address, and telephone number; (2) the number of participants and whether any participant is a foreign national; and (3) a list of the issues to be discussed. Issues raised in the hearing will be limited to those raised in the respective case briefs. Oral presentations at the hearing will be limited to issues raised in the briefs. If a request for a hearing is made, parties will be notified of the time and date for the hearing.¹⁶ Parties should confirm by telephone the date, time, and location of the hearing two days before the scheduled date.

¹⁶ See 19 CFR 351.310(d).

All submissions, including case and rebuttal briefs, as well as hearing requests, should be filed via ACCESS.¹⁷ An electronically filed document must be received successfully in its entirety by ACCESS by 5:00 p.m. Eastern Time on the established deadline.

¹⁷ See 19 CFR 351.303.

Assessment Rates

Upon completion of the final results of this administrative review, Commerce shall determine, and CBP shall assess, antidumping duties on all appropriate entries covered by this review. If a respondent's weighted-average dumping margin is not zero or de minimis (i.e., less than 0.5 percent) in the final results of this review, we will calculate importer-specific assessment rates based on the ratio of the total amount of dumping calculated for the importer's examined sales to the total entered value of those same sales in accordance with 19 CFR 351.212(b)(1). If either respondent's weighted-average dumping margin is zero or de minimis in the final results of review, or if an importer-specific assessment rate is zero or de minimis, Commerce will instruct CBP to liquidate appropriate entries without regard to antidumping duties. The final results of this review shall be the basis for the assessment of antidumping duties on entries of merchandise covered by this review and for future deposits of estimated duties, where applicable.¹⁸

¹⁸ See section 751(a)(2)(C) of the Act.

In accordance with Commerce's “automatic assessment” practice, for entries of subject merchandise during the POR produced by Melbras or Minamel for which these companies did not know that the merchandise was destined for the United States, we will instruct CBP to liquidate those entries at the all-others rate established in the amended final of the original less-than-fair-value (LTFV) investigation (i.e., 9.38 percent),¹⁹ if there is no rate for the intermediate company(ies) involved in the transaction.²⁰ For the companies which were not selected for individual review, we will assign an assessment rate based on the review-specific average rate, calculated as noted in the “Preliminary Results of Review” section above.

¹⁹ See Amended Final, 90 FR at 9226.

²⁰ For a full description of this practice, see Antidumping and Countervailing Duty Proceedings: Assessment of Antidumping Duties, 68 FR 23954 (May 6, 2003).

For the companies listed in Appendix II which were not selected for individual examination, we will assign an assessment rate based on the review-specific rate, calculated as noted in the “Rate for Companies Not Individually Examined” section, above. The final results of this review shall be the basis for the assessment of antidumping duties on entries of merchandise covered by the final results of this review and for future deposits of estimated duties, where applicable.²¹

²¹ See section 751(a)(2)(C) of the Act.

For the companies listed in Appendix III for which the review is rescinded, we will instruct CBP to assess antidumping duties on any suspended entries that entered under their CBP case numbers (i.e., at that exporter's rate) at a rate equal to the cash deposit of estimated antidumping duties required at the time of entry, or withdrawal from warehouse, for consumption, during the POR.

Commerce intends to issue assessment instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by 751(a)(2)(C) of the Act: (1) the cash deposit rate for the companies listed in the final results of this review will be equal to the weighted-average dumping margins established in the final results of this review, except if the rate is less than 0.50 percent and, therefore, de minimis within the meaning of 19 CFR 351.106(c)(1), in which case the cash deposit rate will be zero; (2) for merchandise exported by a company not covered in this review, but covered in a prior segment of the proceeding, the cash deposit rate will be the company-specific rate published for the most recently-completed segment in which it was reviewed; (3) if the exporter is not a firm covered in this review or in the original LTFV investigation, but the producer is, then the cash deposit rate will be the rate established for the most recently-completed segment of this proceeding for the producer of the merchandise; and (4) the cash deposit rate for all other producers or exporters will continue to be 9.38 percent, the all-others rate established in the LTFV investigation.²² These cash deposit requirements, when imposed, shall remain in effect until further notice.

²² See Amended Final, 90 FR at 9226.

Final Results of Review

Unless otherwise extended, Commerce intends to issue the final results of this administrative review, including the results of its analysis of the issues raised in any written briefs, no later than 120 days after the date of publication of this notice, pursuant to section 751(a)(3)(A) of the Act and 19 CFR 351.213(h)(1).

Notification to Importers

This notice serves as a preliminary reminder to importers of their responsibility under 19 CFR 351.402(f)(2) to file a certificate regarding the reimbursement of antidumping duties prior to the liquidation of the relevant entries during the POR. Failure to comply with this requirement could result in Commerce's presumption that reimbursement of antidumping duties occurred and the subsequent assessment of double antidumping duties.

Notification to Interested Parties

Commerce is issuing and publishing these preliminary results in accordance with sections 751(a)(1) and 777(i) of the Act, and 19 CFR 351.213(h)(2) and 351.221(b)(4).

Dated: September 25, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Currency Conversion

VI. Recommendation

Appendix II

List of Companies Not Individually Examined

1. Annamell Imp. E Exp. De Produtos Apicolas Ltda.

2. Apidouro Comercial Exportadora e Importadora Ltda.

3. Apiários Adams Agroindustrial Comercial Exportadora Ltda.

4. Breyer & Via Ltda.

5. Central de Cooperativas Apícolas do Semiárido Brasileiro—CASA APIS.

6. Conexao Agro Ltda. ME.

7. Cooperativa Mista Dos Apicultores D.

8. Flora Nectar Ind. Comp. Imp. E Exp. De Mel Ltda

9. Lambertucci

10. Matrunita

11. S&A Honey Ltda EPP.

12. Wenzel's Apicultura Comercio Industria Importacao Exportacao Ltda. aka Wenzel's Apicultura.

Appendix III

Companies Rescinded from Administrative Review

1. Apis Nativa Agroindustrial Exportadora Ltda.

2. Apiário Diamante Comercial Exportadora Ltda./Apiário Diamante Producão e Comercial de Mel Ltda.

3. Carnauba do Brasil Ltda.

4. Nectar Floral

5. Novomel

6. Safe Logistics.

7. Samel Honey

8. STM Trading

[FR Doc. 2025-19029 Filed 9-29-25; 8:45 am]

BILLING CODE 3510-DS-P